DEPARTMENT OF HEALTH AND HUMAN SERVICES

Administration for Children and Families

Proposed Information Collection Activity; Home-Based Child Care Toolkit for Nurturing School-Age Children Study (New Collection)

AGENCY: Office of Planning, Research, and Evaluation, Administration for Children and Families, United States Department of Health and Human Services.

ACTION: Request for public comments.

SUMMARY: The Administration for Children and Families (ACF) Office of Planning, Research, and Evaluation (OPRE) at the U.S. Department of Health and Human Services (HHS) is proposing to collect information to examine a toolkit of new measures designed to assess and strengthen the quality of child care, the Home-Based Child Care Toolkit for Nurturing School-Age Children (HBCC-NSAC Toolkit). This study aims to build evidence about the English version of the HBCC-NSAC Toolkit for use by/with providers caring for children in a residential setting (i.e., home-based child care [HBCC]).

DATES: Comments due within 60 days of publication. In compliance with the requirements of the Paperwork Reduction Act of 1995, ACF is soliciting public comment on the specific aspects of the information collection described above.

ADDRESSES: You can obtain copies of the proposed collection of information and submit comments by emailing OPREinfocollection@acf.hhs.gov. Identify all requests by the title of the information collection.

SUPPLEMENTARY INFORMATION:

Description: The HBCC-NSAC Toolkit is designed for home-based providers who regularly care for at least 1 school-age child who is not their own. The purpose of the HBCC-NSAC Toolkit is to help home-based providers identify their caregiving strengths and areas for growth. The HBCC-NSAC Toolkit consists of a self-administered provider questionnaire (composed of multiple newly developed measures) and a family communication questionnaire (composed of 1 communication tool). For validation purposes, the study will include the provider questionnaire from the HBCC-NSAC Toolkit with additional items from existing measures and a separate family survey with child and family background information items and items from an existing measure. A subset of providers will be observed with an existing observation measure. Study participants will include home-based providers who can complete the provider questionnaire in English. They must currently care for at least 1 school-age child (age 5 and in kindergarten, or ages 6 through 12) in a home for at least 10 hours per week and for at least 8 weeks in the past year. These providers may also care for younger children (ages birth through 5 and not yet in kindergarten). Families (a parent or guardian of school-age children receiving care in the HBCC setting) who can complete the family survey in English will also be included in the study. The study will be based on a purposive sample of home-based providers in at least 10 geographic locations to maximize variation in the sample. OPRE proposes to collect survey and observational data from home-based providers who are licensed or regulated by states to provide child care and early education (CCEE) and providers who are unlicensed or legally exempt from state regulations for CCEE. Study participants may or may not participate in the child care subsidy program. The data collection activities are designed to provide critical information that is needed to analyze the reliability and validity of the HBCC-NSAC Toolkit's provider questionnaire. The resulting data will help ACF understand if the HBCC-NSAC Toolkit's provider questionnaire can be used to support home-based providers in identifying and reflecting on their caregiving strengths and areas for growth.

Respondents: Home-based providers; families of the children cared for by the providers.

Annual Burden Estimates
Instrument | Number of respondents (total over request period) | Number of responses per respondent (total over request period) | Average burden per response (in hours) | Total/annual burden (in hours)
1. Provider telephone script and recruitment information collection | 204 | 1 | 0.33 | 67
2. Provider telephone script and recruitment information collection including observations | 150 | 1 | .42 | 63
3. HBCC-NSAC Toolkit provider questionnaire | 150 | 1 | .75 | 113
4. Family survey | 166 | 1 | 0.25 | 42

Estimated Total Annual Burden Hours: 285.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 9858.

Mary B. Jones,
ACF/OPRE Certifying Officer.

[FR Doc. 2023-21649 Filed 9-29-23; 8:45 am]

BILLING CODE 4184-23-P